DEPARTMENT OF HOMELAND SECURITY

Federal Emergency Management Agency

44 CFR Part 67

[Docket No. FEMA-D-7678]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency, (FEMA) proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

City of New York, New York
State | City/town/county | Source of flooding | Location | #Depth in feet above ground. *Elevation in feet (NGVD) +Elevation in feet (NAVD): Existing | #Depth in feet above ground. *Elevation in feet (NGVD) +Elevation in feet (NAVD): Modified
New York | New York (City) | Amboy Road Wetland (Staten Island) | Entire shoreline within the community | None | *50
|  | Arbutus Creek (Staten Island) | Approximately 530 feet upstream of Hylan Boulevard | *15 | *16
|  |  | Approximately 980 feet upstream of Amboy Road | None | *57
|  | Blue Heron Main Branch (Staten Island) | Approximately 100 feet upstream of Hylan Boulevard | *10 | *17
|  |  | Approximately 1,700 feet upstream of Tallman Street | None | *70
|  | Blue Heron Tributary (Staten Island) | At the confluence with Blue Heron Main Branch | None | *36
|  |  | Approximately 35 feet upstream of Holbridge Avenue | None | *70
|  | Bronx River (Bronx) | Approximately 600 feet upstream of Tremont Street | *14 | *15
|  |  | Approximately 1,650 feet upstream of East 24th Street | *73 | *74
|  | Butler Manor (Staten Island) | Approximately 75 feet upstream of the confluence with Raritan Bay | *12 | *10
|  |  | Approximately 0.6 mile upstream of the confluence with Raritan Bay | None | *33
|  | Cleveland Avenue Wetland (Staten Island) | Entire shoreline within the community | None | *58
|  | Colon Tributary (Staten Island) | At the confluence with Sweet Brook | *14 | *15
|  |  | Approximately 145 feet upstream of Pemberton Avenue | *44 | *41
|  | D Street Brook (Staten Island) | At D Street | None | *97
|  |  | Approximately 1,530 feet upstream of D Street | None | *155
|  | Denise Tributary (Staten Island) | Approximately 260 feet upstream of the confluence of Arbutus Creek | *17 | *18
|  |  | Approximately 1,205 feet upstream of Jansen Street | *48 | *49
|  | Eibs Pond (Staten Island) | Entire shoreline within the community | None | *87
|  | Eltingville Tributary (Staten Island) | At the confluence with Sweet Brook | *39 | *38
|  |  | Approximately 406 feet upstream of Ratan Avenue | None | *45
|  | Foresthill Road Brook (Staten Island) | Approximately 1,450 feet downstream of Foresthill Road | None | *5
|  |  | Approximately 3,070 feet upstream of Alaska place | None | *74
|  | Hillside Avenue Wetland (Staten Island) | Entire shoreline within the community | None | *56
|  | Jacks Pond (Staten Island) | Entire shoreline within the community | None | *52
|  | Jansen Tributary (Staten Island) | Approximately 330 feet upstream of confluence with Arbutus Creek | *26 | *25
|  |  | Approximately 1,340 feet upstream of confluence with Arbutus Creek | *37 | *41
|  | Lemon Creek (Staten Island) | Approximately 40 feet upstream of Staten Island Rapid Transit Bridge | *10 | *17
|  |  | Approximately 350 feet upstream of Rossville Avenue | *102 | *101
|  | Mill Creek (Staten Island) | Approximately 80 feet downstream of Richmond Valley Road | *10 | *11
|  |  | Approximately 1,320 feet upstream of West Veterans Road | None | *77
|  | Mill Creek Tributary 1 (Staten Island) | At the confluence with Mill Creek | None | *41
|  |  | Approximately 230 feet from the downstream side of the West Shore Expressway | None | *60
|  | Mill Creek Tributary 2 (Staten Island) | At the confluence with Mill Creek | None | *10
|  |  | At the confluence with Mill Creek Tributary 3 | None | *13
|  | Mill Creek Tributary 3 (Staten Island) | At the confluence with Mill Creek Tributary 2 | None | *13
|  |  | Approximately 860 feet upstream of confluence with Mill Creek Tributary 2 | None | *22
|  | Richmond Creek (Staten Island) | Approximately 510 feet downstream of Richmond Hill Road | None | *6
|  |  | Approximately 0.86 mile upstream of Rockland Avenue | None | *254
|  | Sandy Brook (Staten Island) | Approximately 190 feet upstream of Richmond Parkway | *42 | *39
|  |  | Approximately 1,100 feet upstream of Bloomingdale Road | *85 | *84
|  | Stump Pond (Staten Island) | Entire shoreline within the community | None | *271
|  | Sweet Brook (Staten Island) | Approximately 3,200 feet downstream of Genesee Avenue | *14 | *12
|  |  | Approximately 1,050 feet upstream of Richmond Avenue/Drumgoogle Avenue | *95 | *99
|  | Wolfes Pond (Staten Island) | Approximately 1,175 feet upstream of Seguine Avenue | *12 | *10
|  |  | Approximately 175 feet upstream of Hylan Boulevard | None | *21
|  | Wood Duck Pond (Staten Island) | Entire shoreline within the community | None | *54
* National Geodetic Vertical Datum.
# Depth in feet above ground.
+ North American Vertical Datum.
ADDRESSES
Maps are available for inspection at the New York City Planning Department, Waterfront and Open Space Division, 22 Reade Street, Room 6E, New York, New York.
Send comments to The Honorable Michael Bloomberg, Mayor of the City of New York, New York City Hall, 52 Chambers Street, New York, New York 10007.

(Catalog of Federal Domestic Assistance No. 83.100, “Flood Insurance.”)

Dated: November 13, 2006.
David I. Maurstad,
Director, Mitigation Division, Federal Emergency Management Agency, Department of Homeland Security.

[FR Doc. E6-19829 Filed 11-22-06; 8:45 am]

BILLING CODE 9110-12-P